FEDERAL COMMUNICATIONS COMMISSION

Information Collection Being Submitted for Review and Approval to the Office of Management and Budget

AGENCY: Federal Communications Commission.

ACTION: Notice and request for comments.

SUMMARY: The Federal Communications Commission, as part of its continuing effort to reduce paperwork burden invites the general public and other Federal agencies to take this opportunity to comment on the following information collection(s), as required by the Paperwork Reduction Act (PRA) of 1995. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before July 5, 2011. If you anticipate that you will be submitting PRA comments, but find it difficult to do so within the period of time allowed by this notice, you should advise the FCC contact listed below as soon as possible.

ADDRESSES: Direct all PRA comments to Nicholas A. Fraser, Office of Management and Budget, via fax at 202-395-5167 or via e-mail to Nicholas_A._Fraser@omb.eop.gov and to the Federal Communications Commission via e-mail to PRA@fcc.gov and Cathy.Williams@fcc.gov. To view a copy of this information collection request (ICR) submitted to OMB: (1) Go to the Web page http://reginfo.gov/public/do/PRAMain, (2) look for the section of the web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information or copies of the information collection(s), contact Cathy Williams on (202) 418-2918.

SUPPLEMENTARY INFORMATION:

OMB Control Number: 3060-0805.

Title: Section 90.527, Regional Plan Requirements; Section 90.523, Eligibility; Section 90.545(c)(1), Interference Protection Criteria and Section 90.1211, Regional Plan Shared Use of 4.9 GHz.

Form No.: N/A.

Type of Review: Extension of a currently approved collection.

Respondents: Business or other for-profit, not-for-profit institutions and state, local or tribal government.

Number of Respondents and Responses: 15,066 respondents, 21,116 responses.

Estimated Time per Response: .5 hours-10 hours.

Frequency of Response: On occasion and one time reporting requirements and third party disclosure requirements.

Obligation To Respond: Required to obtain or retain benefits. Statutory authority for this information collection is contained in 47 U.S.C. 154(i), 161, 303(g), 303(r), and 332(c)(7).

Total Annual Burden: 61,075 hours.

Total Annual Cost: N/A.

Privacy Act Impact Assessment: No impact(s).

Nature and Extent of Confidentiality: There is no need for confidentiality with this collection of information.

Needs and Uses: The Commission is seeking from the Office of Management and Budget (OMB) a three year approval for an extension without change for information collection 3060-0805.

The requirements that the Commission wants continued OMB approval is for the following:

Section 90.523 which requires that nongovernmental organizations, which provide services to protect the safety of life, or property, to obtain a written statement from an authorizing state or local government entity to support the nongovernmental organization's application for the assignment of 700 MHz frequencies.

Section 90.545(c)(1) requires that public safety applicants select one of three ways to meet TV/DTV protection requirements: (1) Utilize geographic separation table in the rule; (2) submit an engineering study to justify other separations; or (3) obtain concurrence from the applicable TV/DTV station(s). The engineering study is submitted to the Commission if the channel separation is other than what is stated in rule (table). This will reduce the potential for interference to public reception of the signals of existing TV and DTV broadcast stations transmitting on TV channels 62, 63, 64, 65, 67, 68 or 69.

Section 90.527 states that to prepare the regional plans for the 700 MHz band, the regional planning committees will require input from those entities within the regions that will be eligible to receive licenses under the plans. Entities that seek inclusion in the plan in order to obtain licenses will be third party respondents.

Section 90.1211 the Commission suggested that each 700 MHz region submit a plan on guidelines to be used for sharing the spectrum within the region.

The information will be submitted to the Commission and they will use the information obtained to assign licenses, and also use the information to determine regional spectrum requirements and to develop technical standards. The information will also be used to determine whether prospective licensees will operate in compliance with the Commission's rules. Without such information, the Commission could not accommodate regional requirements or provide for the optimal use of the available frequencies. For information provide to, or exchanged among third parties, the data will be used to establish eligibility.

Federal Communications Commission.
Marlene H. Dortch,
Secretary, Office of the Secretary, Office of Managing Director.

[FR Doc. 2011-13662 Filed 6-1-11; 8:45 am]

BILLING CODE 6712-01-P